DEPARTMENT OF ENERGY

Federal Energy Regulatory Commission

Combined Notice of Filings

Take notice that the Commission has received the following Natural Gas Pipeline Rate and Refund Report filings:

Filings Instituting Proceedings

Docket Numbers: RP13-1330-000.

Applicants: Laclede Gas Company, Southern Union Company.

Description: Joint Petition For Temporary Waivers of Capacity Release Regulations and Request for Expedited Action of Laclede Gas Company and Southern Union Company.

Filed Date: 9/17/13.

Accession Number: 20130917-5112.

Comments Due: 5 p.m. ET 9/30/13.

Docket Numbers: RP13-1334-000.

Applicants: Natural Gas Pipeline Company of America.

Description: Macquarie LPS RO to be effective 9/19/2013.

Filed Date: 9/19/13.

Accession Number: 20130919-5072.

Comments Due: 5 p.m. ET 10/1/13.

Docket Numbers: RP13-1335-000.

Applicants: Natural Gas Pipeline Company of America.

Description: NJR Neg Rate to be effective 9/19/2013.

Filed Date: 9/19/13.

Accession Number: 20130919-5073.

Comments Due: 5 p.m. ET 10/1/13.

Docket Numbers: RP13-1336-000.

Applicants: Natural Gas Pipeline Company of America.

Description: NJR Negotiated Rate to be effective 9/19/2013.

Filed Date: 9/19/13.

Accession Number: 20130919-5074.

Comments Due: 5 p.m. ET 10/1/13.

Docket Numbers: RP13-1337-000.

Applicants: Natural Gas Pipeline Company of America.

Description: Renaissance LPS RO to be effective 9/19/2013.

Filed Date: 9/19/13.

Accession Number: 20130919-5151.

Comments Due: 5 p.m. ET 10/1/13.

Docket Numbers: RP13-1338-000.

Applicants: Enable Mississippi River Transmission, L.

Description: Enable Mississippi River Transmission, LLC's 2013 Annual Report of Penalty Revenue Credits.

Filed Date: 9/19/13.

Accession Number: 20130919-5170.

Comments Due: 5 p.m. ET 10/1/13.

Docket Numbers: RP13-1339-000.

Applicants: Enable Gas Transmission, LLC.

Description: Fuel Tracker Filing Effective November 2013 to be effective 11/1/2013.

Filed Date: 9/20/13.

Accession Number: 20130920-5031.

Comments Due: 5 p.m. ET 10/2/13.

Docket Numbers: RP13-1340-000.

Applicants: Natural Gas Pipeline Company of America.

Description: Tenaska's LPS RO to be effective 9/20/2013.

Filed Date: 9/20/13.

Accession Number: 20130920-5033.

Comments Due: 5 p.m. ET 10/2/13.

Docket Numbers: RP13-1341-000.

Applicants: Natural Gas Pipeline Company of America.

Description: Tenaska's Negotiated Rate LPS RO to be effective 9/20/2013.

Filed Date: 9/20/13.

Accession Number: 20130920-5044.

Comments Due: 5 p.m. ET 10/2/13.

Docket Numbers: RP13-1342-000.

Applicants: Natural Gas Pipeline Company of America.

Description: Castleton LPS RO to be effective 9/20/2013.

Filed Date: 9/20/13.

Accession Number: 20130920-5047.

Comments Due: 5 p.m. ET 10/2/13.

Docket Numbers: RP13-1343-000.

Applicants: Cheniere Creole Trail Pipeline, L.P.

Description: Miscellaneous Tariff Filing to be effective 11/1/2013.

Filed Date: 9/20/13.

Accession Number: 20130920-5091.

Comments Due: 5 p.m. ET 10/2/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1216-001.

Applicants: Columbia Gulf Transmission, LLC.

Description: ACA 2013 Errata to be effective 10/1/2013.

Filed Date: 9/20/13.

Accession Number: 20130920-5117.

Comments Due: 5 p.m. ET 10/2/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2013.
Nathaniel J. Davis, Sr.,
Deputy Secretary.

[FR Doc. 2013-23593 Filed 9-26-13; 8:45 am]

BILLING CODE 6717-01-P